DEPARTMENT OF ENERGY

State Energy Advisory Board

AGENCY: Office of Energy Efficiency and Renewable Energy, Department of Energy.

ACTION: Notice of open meeting.

SUMMARY: This notice announces a meeting of the State Energy Advisory Board (STEAB). The Federal Advisory Committee Act requires that public notice of these meetings be announced in the Federal Register.

DATES:

November 27, 2018 9 a.m. to 5:30 p.m. ET

November 28, 2018 9 a.m. to 3:30 p.m. ET

ADDRESSES: The meeting will be held at the National Renewable Energy Laboratory, 15013 Denver West Parkway, Golden, CO 80401.

FOR FURTHER INFORMATION CONTACT: Michael Li, Senior Policy Advisor, Office of Energy Efficiency and Renewable Energy, U.S. Department of Energy, 1000 Independence Ave. SW, Washington, DC 20585. Phone number 202-287-5189, and email Michael.Li@ee.doe.gov

SUPPLEMENTARY INFORMATION:

Purpose of the Board: To make recommendations to the Assistant Secretary for the Office of Energy Efficiency and Renewable Energy regarding goals and objectives, programmatic and administrative policies, and to otherwise carry out the Board's responsibilities as designated in the State Energy Efficiency Programs Improvement Act of 1990 (Pub. L. 101-440).

Tentative Agenda: Meet with and hear from lab staff that support the work of the Office of Energy Efficiency and Renewable Energy. The meeting is also expected to examine the work of the Grid Modernization Initiative, Building Technologies Office and the Weatherization and Intergovernmental Programs Office. The Board is expected to develop recommendations for the Assistant Secretary of the Office of Energy Efficiency and Renewable Energy.

Public Participation: The meeting is open to the public. Written statements may be filed with the Board either before or after the meeting. Members of the public who wish to make oral statements pertaining to agenda items should contact Michael Li at the address or telephone number listed above. Requests to make oral comments must be received five days prior to the meeting; reasonable provision will be made to include requested topic(s) on the agenda. The Chair of the Board is empowered to conduct the meeting in a fashion that will facilitate the orderly conduct of business.

Minutes: The minutes of the meeting will be available for public review and copying within 90 days on the STEAB website: http://www.energy.gov/eere/steab/state-energy-advisory-board.

Signed in Washington, DC, on October 16, 2018.
Latanya Butler,
Deputy Committee Management Officer.

[FR Doc. 2018-22875 Filed 10-19-18; 8:45 am]

BILLING CODE 6450-01-P